FEDERAL MARITIME COMMISSION

[Docket No. FMC-2023-0012]

Agency Information Collection Activities: 60-Day Public Comment Request

AGENCY: Federal Maritime Commission.

ACTION: Sixty-day notice; request for comments.

SUMMARY: As part of our continuing effort to reduce paperwork and respondent burden, and as required by the Paperwork Reduction Act of 1995, the Federal Maritime Commission (Commission) invites comments on a new data collection concerning empty container volumes at intermodal locations. The collection also implements certain provisions of the Ocean Shipping Reform Act of 2022.

DATES: Written comments must be submitted on or before July 24, 2023.

ADDRESSES: Submit comments for the proposed information collection requests to Lucille L. Marvin, Managing Director at email: omd@fmc.gov. The FMC will summarize any comments received in response to this notice in a subsequent notice and include them in its information collection submission to OMB for approval.

FOR FURTHER INFORMATION CONTACT: Copies of the information collections and instructions, or copies of any comments received, may be obtained by contacting Tara Nielsen at 202-523-5800 or omd@fmc.gov.

SUPPLEMENTARY INFORMATION:

Request for Comments

The Commission, as part of its continuing effort to reduce paperwork and respondent burden, invites the general public and other Federal agencies to comment on the continuing information collections listed in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments. We invite comments on: (1) the necessity and utility of the proposed information collection for the proper performance of the agency's functions; (2) the accuracy of the estimated burden; (3) ways to enhance the quality, utility, and clarity of the information to be collected; and (4) the use of automated collection techniques or other forms of information technology to minimize the information collection burden.

Information Collections Open for Comment

Title: Empty Containers Ready for Use by Location.

OMB Approval Number: 3072-XXXX.

Abstract: The Ocean Shipping Reform Act of 2022 (OSRA 2022) mandated new data collections for Federal agencies to address key gaps in available data. See 46 U.S.C. 41110. The Federal Maritime Commission (FMC) was instructed to collect and report on vessel-level tonnage as well as full and empty containers entering and leaving U.S. ports in international trade. The U.S. Department of Transportation's Bureau of Transportation Statistics (BTS) was instructed to collect operational data on intermodal equipment and dwell times. Both agencies have work underway on these data collections. The FMC and BTS have further identified data gaps related to location of intermodal shipping containers (as defined in ISO 668—Series 1 Freight Containers) ready for use by shippers, particularly exporters, at key intermodal locations. Exporters would benefit from current information on the geographic areas where empty ocean intermodal equipment is positioned. FMC is seeking to collect daily data on empty containers on a weekly basis as well as a two-week outlook for containers ready for use at 30 intermodal locations, which will include inland dry ports, intermodal container transfer facilities, and marine terminals.

The information collected would be used to compile and publish a weekly report on the throughput and availability of multiple container types (e.g., refrigerated and dry) and sizes (e.g., 20-foot, 40-foot, and 45-foot) at key intermodal locations. The universe of respondents is the top 12 ocean common carriers, measured by container volume.

Current Actions: This information being submitted contains a new data collection.

Type of Review: New data collection.

Needs and Uses: The Federal Maritime Commission and Bureau of Transportation Statistics will use collected data to produce a weekly report and to monitor current industry trends.

Frequency: This information will be collected weekly each year. There are 52 weeks in a year.

Type of Respondents: The universe will be the 12 largest ocean common carriers, measured by the total volume of containers moving through U.S. ports in international common carriage.

Number of Annual Respondents: The FMC estimates an annual respondent universe of 12 ocean common carriers, each of which will provide data weekly. The total number of responses will be 624. The FMC expects the estimated number of annual respondents to remain constant in the future.

Estimated Time per Response: The time per response is estimated at 2.5 person-hours for reporting requirements.

Total Annual Burden: For the 12 carriers with weekly reporting, the burden is calculated as 12 × 52 × 2.5 hours = 1,560 hours.

William Cody,
Secretary.

[FR Doc. 2023-11082 Filed 5-23-23; 8:45 am]

BILLING CODE 6730-02-P